DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a public meeting. The meeting is open to the public.

DATES: The NBSB will hold a public meeting on September 25, 2009 from 8 a.m. to 5 p.m. EDT. The agenda is subject to change as priorities dictate.

ADDRESSES: Washington DC Metro Area. The venue details will be posted on the NBSB Web page at http://www.hhs.gov/aspr/omsph/nbsb/index.html as they become available.

FOR FURTHER INFORMATION CONTACT: CAPT Leigh A. Sawyer, D.V.M., M.P.H., Executive Director, National Biodefense Science Board, Office of the Assistant Secretary for Preparedness and Response, U.S. Department of Health and Human Services, 330 C Street, SW., Switzer Building Room 5127, Washington, DC 20201; 202-205-3815; fax: 202-205-8508; e-mail address: leigh.sawyer@hhs.gov.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Background: The tentative agenda includes updates from the chairs of the: Pandemic Influenza Working Group, MCM Markets and Sustainability Working Group, Disaster Medicine Working Group, Personal Preparedness Working Group, and the Disaster Mental Health Subcommittee. Additional topics surrounding the current H1N1 influenza outbreak will be considered during the public meeting. This agenda is subject to change as priorities dictate.

Availability of Materials: The meeting agenda, and other materials will be posted on the NBSB Web site at http://www.hhs.gov/aspr/omsph/nbsb/index.html prior to the meeting.

Procedures for Providing Public Input: Any member of the public providing oral comments at the meeting must sign-in at the registration desk and provide his/her name, address, and affiliation. All written comments must be received prior to September 17, 2009, and should be sent by e-mail to NBSB@hhs.gov with “NBSB Public Comment” as the subject line, or mailed to Leigh Sawyer, 330 C Street, SW., Switzer Building Room 5127, Washington, DC 20201. Individuals who plan to attend and need special assistance, such as sign language interpretation or other reasonable accommodations, should notify the designated contact person.

Dated: July 24, 2009.
Nicole Lurie,
Assistant Secretary for Preparedness and Response, Rear Admiral, U.S. Public Health Service.

[FR Doc. E9-18374 Filed 7-30-09; 8:45 am]

BILLING CODE 4150-37-P